DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA), Department of Commerce.

Title: Comprehensive Economic Development Strategies (CEDS).

OMB Control Number: 0610-0093.

Form Number(s): None.

Type of Request: Regular submission.

Number of Respondents: 527.

Average Hours per Response: 480 hours for the initial CEDS for a District organization or other planning organization funded by EDA; 160 hours for the CEDS revision required at least every 5 years from and EDA-funded District or other planning organization; 40 hours per applicant for EDA Public Works or Economic Adjustment Assistance with a project deemed by EDA to merit further consideration that is not located in an EDA-funded District.

Burden Hours: 31,640.

Needs and Uses: In order to receive investment assistance under EDA's Public Works and Economic Adjustment programs, applicants must undertake a planning process that results in a Comprehensive Economic Development Strategy (CEDS). A CEDS also is a prerequisite for a region's designation by EDA as an Economic Development District (EDD) (see 13 CFR 303, 305.2, and 307.2 of EDA's regulations). The CEDS planning process and resulting CEDS is designed to build capacity and guide the economic prosperity and resiliency of an area or region. It is a key component in establishing and maintaining a robust economic ecosystem by helping to build regional capacity (through hard and soft infrastructure) that contributes to individual, firm, and community success. This collection of information is required to insure that recipients of EDA funds understand and are able to comply with EDA's CEDS requirements.

Affected Public: Not-for-profit institutions; Federal government; State, local or tribal government; Business or other for-profit organizations.

Frequency: Annually.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2015-16018 Filed 6-29-15; 8:45 am]

BILLING CODE 3510-34-P